DEPARTMENT OF DEFENSE

Corps of Engineers, Department of the Army

Notice of Intent To Prepare an Environmental Assessment for Proposed Authorization of an Ohio River Ecosystem Restoration Program

AGENCY: U.S. Army Corps of Engineers, DoD.

ACTION: Notice.

SUMMARY: This Notice of Intent is an amendment to the Department of the Army, Corps of Engineers, “Notice of Intent to Prepare an Environmental Impact Statement for the Ohio River Main Stem System Study,'' published in Federal Register, volume 63, number 203 page 56165, on Wednesday, October 21, 1998.

The U.S. Army Corps of Engineers, in partnership with the U.S. Fish and Wildlife Service, and resource agencies of states bordering the Ohio River, is currently evaluating various ecosystem restoration opportunities for the Ohio River corridor. The proposed action is being conducted under the authority of United States Senate, Committee on Public Works resolution dated May 16, 1955; and, United States House of Representatives. Committee on Public Works and Transportation resolution dated March 11, 1982.

The Corps of Engineers will prepare and circulate a Decision Document and integrated Environmental Assessment which will announce an intention to prepare a Finding of No Significant Impact (FONSI), IF appropriate. Public review of this report is scheduled to begin in July 2000. Interested parties are encouraged to send written comments or requests for information, regarding the proposed study process, to the point-of-contact below. All comments and information requests should be postmarked no later than 30 days after this Notice of Intent is published.

FOR FURTHER INFORMATION CONTACT: Please address questions regarding this notice to Mr. Michael Q. Holley, PM-C, Louisville District, Corps of Engineers, P.O. Box 59, Louisville, Kentucky 40201-0059, Telephone: (502) 582-5152.

SUPPLEMENTARY INFORMATION: a. Reference Federal Register, volume 63, number 203, dated Wednesday, October 21, 1998. Within that document, the Corps of Engineers gave notice of intent to prepare an Environmental Impact Statement for the Ohio River Main Stem System Study.

This study is designed to capture foreseeable maintenance, rehabilitation and new construction needs for the navigation infrastructure of the Ohio River until the year 2060 and to investigate habitat restoration options along the main stem Ohio River. The study would also identify those actions which are economically justified and environmentally prudent.

b. As part of the Ohio River Main Stem System Study, an environmental team, consisting of personnel from the U.S. Fish and Wildlife Service, the natural resource agencies of six states, and the Corps of Engineers was formed. This team investigated opportunities and established general goals for ecosystem restoration projects. During the initial study process, resource officials of states bordering the Ohio River, identified over 250 site-specific environmental projects for further analysis. Because of the considerable interest, the Corps of Engineers, with support from state officials, initiated a study report for proposed authorization of a cost shared ecosystem restoration program for the Ohio River.

c. The Corps of Engineers originally intended to study ecosystem restoration, within the entire Ohio River Main Stem System Study, as indicated in the Supplemental Information of Federal Register, volume 63, number 203. However, an ecosystem restoration program does not relate directly to navigational improvements and can stand independent of those improvements. It was therefore determined that an ecosystem restoration program would be developed as a separate product of the Ohio River Main Stem System Study.

d. The primary purpose of the proposed ecosystem restoration program is to restore and protect aquatic, wetland, floodplain and riparian habitats that would benefit from such a program for the Ohio River watershed. These goals would be accomplished by means of erosion control, island restoration, bottomland reforestation, creation of aquatic habitat, and other generally accepted environmental measures. As a secondary objective, the program would preserve the historic and cultural resources of the Ohio River through implementation of various low cost educational and recreational amenities that would not detract from the environmental restoration goals of the program.

e. The Corps of Engineers will prepare and circulate a Decision Document and integrated Environmental Assessment which will announce an intention to prepare a FONSI, if a FONSI is determined to be appropriate. Circulation of this document will assist the Corps in determining whether an Environmental Impact Statement (EIS) or a FONSI is the next appropriate step in the NEPA process prior to authorization of a cost shared ecosystem restoration program for the Ohio River.

Daniel E. Steiner,
Chief, Planning Division.

[FR Doc. 00-14676 Filed 6-8-00; 8:45 am]

BILLING CODE 3710-85-M